GOVERNMENT PUBLISHING OFFICE

Depository Library Council Meeting

AGENCY: U.S. Government Publishing Office.

ACTION: Notice of meeting.

SUMMARY: The Depository Library Council (DLC) will meet in conjunction with the Federal Depository Library Conference from Monday, October 17, 2022 through Wednesday, October 19, 2022, virtually. The sessions will take place from 12 p.m.. to 5:30 p.m. (EDT).

The meetings will take place online, and anyone can register to attend at https://www.fdlp.gov/2022-fdl-conference. Closed captioning will also be provided. The purpose is to discuss matters affecting the Federal Depository Library Program. All sessions are open to the public.

Dated: October 17-19, 2022.
Hugh Nathanial Halpern,
Director, U.S. Government Publishing Office.

[FR Doc. 2022-20382 Filed 9-20-22; 8:45 am]

BILLING CODE 1520-01-P